MARINE MAMMAL COMMISSION

Sunshine Act Meeting

TIME AND DATE: The Marine Mammal Commission and its Committee of Scientific Advisors on Marine Mammals will meet on Tuesday, 7 May 2013, from 10:30 a.m. to 5:45 p.m.; Wednesday, 8 May 2013, from 8:30 a.m. to 5:30 p.m.; Thursday, 9 May 2013, from 8:30 a.m. to 5:00 p.m. The Commission and the Committee also will meet in executive session on Tuesday, 7 May 2013, from 8:30 to 10:00 a.m.

PLACE: The Pacific Room, Southwest Fisheries Science Center, 8901 La Jolla Shores Drive, La Jolla, CA 92037; (858) 546-7000.

STATUS: The executive session will be closed to the public in accordance with the provisions of the Government in the Sunshine Act (5 U.S.C. 552b) and applicable regulations. The session will limited to discussions of internal agency practices, personnel, and the budget of the Commission. All other portions of the meeting will be open to the public. Public participation will be allowed as time permits and as determined to be desirable by the Chairman.

MATTERS TO BE CONSIDERED: The Commission and Committee will meet in public session to discuss a broad range of marine ecosystem and marine mammal matters with a focus on issues related to the Pacific Coast. Although subject to change, issues that the Commission plans to consider at the meeting include marine mammal-fishery interactions, disturbance of marine mammals from sound, growing pinniped populations on the West Coast, vessel strikes of large whales, and the status and conservation of southern resident killer whales, North Pacific right whales, North pacific humpback whales, beaked whales, southern sea otters, and gray whales. In addition, the Commission plans to consider several international conservation issues including the International Whaling Commission, the vaquita, Antarctic management and the Southern Ocean Research Program, the International Union for Conservation of Nature, the Mekong River dolphin, southern right whale, Southeast Asia marine mammals, and the eastern tropical Pacific Ocean and effects of the tuna fishery on dolphin stocks. The Commission also will review issues related to conducting marine mammal surveys and other scientific studies under declining budgets.

CONTACT PERSON FOR MORE INFORMATION: Mark D. Richardson, Special Assistant to the Executive Director, Marine Mammal Commission, 4340 East-West Highway, Room 700, Bethesda, MD 20814; (301) 504-0087; email: mrichardson@mmc.gov.

Dated: April 15, 2013.
Timothy J. Ragen,
Executive Director.

[FR Doc. 2013-09167 Filed 4-15-13; 4:15 pm]

BILLING CODE 6820-31-P